DEPARTMENT OF TRANSPORTATION

Coast Guard

[USCG 2001-11106]

Collection of Information Under Review by Office of Management and Budget (OMB): OMB Control Numbers 2115-0115, 2115-0078, 2115-0113, and 2115-0013

AGENCY: Coast Guard, DOT.

ACTION: Request for comments.

SUMMARY: In compliance with the Paperwork Reduction Act of 1995, the Coast Guard intends to seek the approval of OMB for the renewal of four Information Collection Requests (ICRs). The ICRs comprise (1) Electrical Engineering—Title 46 CFR Subchapter J, (2) Operations Manual and Amendments for Facilities Transferring Oil and Hazardous Materials in Bulk, (3) Self-propelled Vessels Carrying Liquefied Gas, and (4) Application and Permit to Handle Hazardous Material. Before submitting the ICRs to OMB, the Coast Guard is inviting comments on them as described below.

DATES: Comments must reach the Coast Guard on or before February 11, 2002.

ADDRESSES: To make sure that your comments and related material do not enter the docket (USCG 2001-11106) more than once, please submit them by only one of the following means:

(1) By mail to the Docket Management Facility, U.S. Department of Transportation, room PL-401, 400 Seventh Street SW., Washington, DC 20590-0001. Caution: Because of recent delays in the delivery of mail, your comments may reach the Facility more quickly if you choose one of the other means described below.

(2) By delivery to room PL-401 on the Plaza level of the Nassif Building, 400 Seventh Street SW., Washington, DC, between 9 a.m. and 5 p.m., Monday through Friday, except Federal holidays. The telephone number is 202-366-9329.

(3) By fax to the Docket Management Facility at 202-493-2251.

(4) Electronically through the Web Site for the Docket Management System at http://dms.dot.gov.

The Docket Management Facility maintains the public docket for this notice. Comments and material received from the public, as well as documents mentioned in this notice as being available in the docket, will become part of this docket and will be available for inspection or copying at room PL-401 on the Plaza level of the Nassif Building, 400 Seventh Street SW., Washington, DC, between 9 a.m. and 5 p.m., Monday through Friday, except Federal holidays. You may also find this docket on the Internet at http://dms.dot.gov.

Copies of the complete ICR are available through this docket on the Internet at http://dms.dot.gov, and also from Commandant (G-CIM-2), U.S. Coast Guard Headquarters, room 6106 (Attn: Barbara Davis), 2100 Second Street SW., Washington, DC 20593-0001. The telephone number is 202-267-2326.

FOR FURTHER INFORMATION CONTACT: Barbara Davis, Office of Information Management, 202-267-2326, for questions on these documents; or Dorothy Beard, Chief, Documentary Services Division, U.S. Department of Transportation, 202-366-5149, for questions on the docket.

Request for Comments

The Coast Guard encourages interested persons to submit comments. Persons submitting comments should include their names and addresses, identify this document (USCG 2001-11106), and give the reasons for the comments. Please submit all comments and attachments in an unbound format no larger than 8½ by 11 inches, suitable for copying and electronic filing. Persons wanting acknowledgment of receipt of comments should enclose stamped self-addressed postcards or envelopes.

Information Collection Requests

1. Title: Electrical Engineering—Title 46 CFR subchapter J.

OMB Control Number: 2115-0115.

Summary: We need the information sought here to ensure compliance with our rules on electrical engineering for the design and construction of U.S.-flag commercial vessels.

Need: 46 U.S.C. 3306 and 3703 authorize the Coast Guard to establish rules to promote the safety of life and property in commercial vessels. These rules appear at 46 CFR subchapter J (parts 110 to 113).

Respondents: Owners, operators, and builders of vessels.

Frequency: On occasion.

Burden Estimate: The estimated burden is 1,153 hours a year.

2. Title: Operations Manual and Amendments for Facilities Transferring Oil and Hazardous Materials in Bulk.

OMB Control Number: 2115-0078.

Summary: An operations manual is mandatory for waterfront facilities that will be transferring bulk oil or hazardous materials to or from vessels. It establishes procedures for personnel of the facility to follow when conducting the transfer and in the event of a spill.

Need: 33 U.S.C. 1321 authorizes the Coast Guard to establish rules to prevent the discharge of oil and hazardous materials from facilities. 33 CFR part 154 prescribes these rules.

Respondents: Owners and operators of waterfront facilities.

Frequency: On occasion.

Burden Estimate: The estimated burden is 27,369 hours a year.

3. Title: Self-propelled Vessels Carrying Liquefied Gas.

OMB Control Number: 2115-0113.

Summary: We need the information sought here to ensure compliance with our rules for the design and operation of carriers of liquefied gas.

Need: 46 U.S.C. 3703 and 9101 authorize the Coast Guard to establish rules to protect life, property, and the environment from the hazards associated with the carriage of dangerous liquid cargo in bulk. 46 CFR part 154 prescribes these rules for the carriage of liquefied gases in bulk on self-propelled vessels by governing the design, construction, equipment, and operation of these vessels and the safety of personnel aboard them.

Respondents: Owners and operators of self-propelled vessels carrying liquefied gas.

Frequency: On occasion.

Burden Estimate: The estimated burden is 5,131 hours a year.

4. Title: Application and Permit to Handle Hazardous Materials.

OMB Control Number: 2115-0013.

Summary: The information sought here ensures the safe handling of explosives and other hazardous materials around ports and aboard vessels. Shipping agents and terminal operators who handle the above commodities must comply.

Need: 33 U.S.C. 1225 authorizes the Coast Guard to establish standards for the handling, storage, and movement of hazardous materials on a vessel or waterfront facility. 33 CFR 126.17 and 49 CFR 176.100 and 176.415 prescribe the rules for facilities and vessels.

Respondents: Shipping agents and terminal operators that handle hazardous materials.

Frequency: On occasion.

Burden Estimate: The estimated burden is 292 hours a year.

Dated: December 7, 2001.
V.S. Crea,
Director of Information and Technology.

[FR Doc. 01-30751 Filed 12-11-01; 8:45 am]

BILLING CODE 4910-15-U